FEDERAL RESERVE SYSTEM

Consumer Advisory Council

ACTION: Notice of Meeting of Consumer Advisory Council

The Consumer Advisory Council will meet on Thursday, October 28, 2004. The meeting, which will be open to public observation, will take place at the Federal Reserve Board's offices in Washington, D.C., in Dining Room E on the Terrace level of the Martin Building. Anyone planning to attend the meeting should, for security purposes, register no later than Tuesday, October 26, by completing the form found on-line at: https://www.federalreserve.gov/secure/forms/cacregistration.cfm.

Additionally, attendees must present photo identification to enter the building.

The meeting will begin at 9:00 a.m. and is expected to conclude at 1:00 p.m. The Martin Building is located on C Street, NW, between 20th and 21st Streets.

The Council's function is to advise the Board on the exercise of the Board's responsibilities under various consumer financial services laws and on other matters on which the Board seeks its advice. Time permitting, the Council will discuss the following topics:

Community Reinvestment Act Proposed Rules: Discussion of the impact of the recent CRA proposals on community reinvestment and the process of interagency oversight and supervision.

Courtesy Overdraft Protection: Discussion of issues relative to coverage of courtesy overdraft protection under the Truth in Savings Act or the Truth in Lending Act.

Anti-Predatory Lending Laws: Discussion of federal and state legislation to protect consumers from abusive lending practices.

Electronic Fund Transfer Act: Discussion of issues in connection with the proposed changes to Regulation E, which implements the Electronic Fund Transfer Act.

Committee Reports: Council committees will report on their work.

Other matters initiated by Council members also may be discussed.

Persons wishing to submit views to the Council on any of the above topics may do so by sending written statements to Ann Bistay, Secretary of the Consumer Advisory Council, Division of Consumer and Community Affairs, Board of Governors of the Federal Reserve System, Washington, D.C. 20551. Information about this meeting may be obtained from Ms. Bistay, 202-452-6470.

Board of Governors of the Federal Reserve System, September 29, 2004.
Jennifer J. Johnson
Secretary of the Board

[FR Doc. 04-22332 Filed 10-4-04; 8:45 am]

BILLING CODE: 6210-01-S